Title 3—

The President

Memorandum of March 19, 2017

Delegation of Authority Under the National Defense Authorization Act for Fiscal Year 2017

Memorandum for the Secretary of State

By the authority vested in me as President by the Constitution and the laws of the United States of America, including section 301 of title 3, United States Code, I hereby order as follows:

I hereby delegate to the Secretary of State the functions and authorities vested in the President by section 3132 of the National Defense Authorization Act for Fiscal Year 2017 (Public Law 114-328) (the “Act”).

Any reference in this memorandum to the Act shall be deemed to be a reference to any future Act that is the same or substantially the same as such provision.

You are authorized and directed to publish this memorandum in the Federal Register.

THE WHITE HOUSE,

Washington, March 19, 2017

[FR Doc. 2017-07331

Filed 4-7-17; 11:15 am]

Billing code 4710-10-P